DEPARTMENT OF THE INTERIOR

National Park Service

[NPS-WASO-NAGPRA-14570; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum, University of Washington (Burke Museum), has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Burke Museum. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Burke Museum at the address in this notice by February 18, 2014.

ADDRESSES: Peter Lape, Burke Museum, University of Washington, Box 353010, Seattle, WA 98195, telephone (206) 685-3849, email plape@uw.edu.

SUPPLEMENTARY INFORMATION: Notice is here given in accordance with the Native American Graves Protection and Repatriation Act (NAGPRA), 25 U.S.C. 3003, of the completion of an inventory of human remains and associated funerary objects under the control of the Burke Museum. The human remains and associated funerary objects were removed from Grays Harbor County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Burke Museum professional staff in consultation with representatives of the Confederated Tribes of the Chehalis Reservation and the Quinault Indian Nation (previously listed as the Quinault Tribe of the Quinault Reservation, Washington).

History and Description of the Remains

In 1947, human remains representing, at minimum, four individuals were removed from Grays Harbor County, WA. The human remains and associated funerary objects were collected on an expedition led by Richard Daugherty, as a part of a survey of Grays Harbor County. Three of these individuals are possibly from a site designated by Daugherty as UW Site 15, which was on the Minard Ranch (45-GH-15). This site corresponds with the Native American town of Oyhut. The provenience of the fourth individual collected by Daugherty during his survey of Grays Harbor County is unknown. The human remains and funerary objects were donated to the Burke Museum in 1947 (Burke Accn. #3583). Additional human remains and associated funerary objects from this site were previously published in Notices of Inventory Completion in the Federal Register by Washington State University (May 17, 2007 and corrected August 21, 2008) and Central Washington University (March 16, 2012). No known individuals were identified. The seven associated funerary objects are one net weight, one net weight fragment, three flakes, and two unmodified mammal bone fragments.

In 1960, human remains representing, at minimum, one individual were removed from south of Ocean City in Grays Harbor County, WA. Michael Mattbey donated the remains to the Burke Museum in 1962 (Burke Accn. #1963-75). No known individuals were identified. No funerary objects are present.

Osteological and anthropological evidence indicates that the human remains are Native American. The Minard Ranch Site (45-GH-15) is located at or near the traditional Copalis village of Oyhut. The Copalis are a subgroup of the Lower Chehalis of Southwestern Coast Salish culture area. The Copalis speak the Quinault language, while other Lower Chehalis groups speak Lower Chehalis. The traditional territory of the Copalis encompasses the area surrounding the Copalis River and stretching southward to North Bay (Hajda 1990; Spier 1936). Archeological evidence at the site suggests the site was occupied from approximately 1,000 years before the present until the early 19th century. The Chehalis Reservation was created in 1864 for the Upper Chehalis, Cowlitz, and coastal groups south of Quinault, including the Lower Chehalis. Many Lower Chehalis chose not to be removed from their aboriginal land. Individuals of Lower Chehalis descent are also members of the Shoalwater Bay Indian Tribe of the Shoalwater Bay Indian Reservation (previously listed as the Shoalwater Bay Tribe of the Shoalwater Bay Indian Reservation, Washington) and the Quinault Indian Nation (previously listed as the Quinault Tribe of the Quinault Reservation, Washington). Today, the Lower Chehalis are represented by the Confederated Tribes of the Chehalis Reservation.

Determinations Made by the Burke Museum

Officials of the Burke Museum have determined that:

• Based on anthropological and biological evidence, the human remains are Native American.

• Pursuant to 25 U.S.C. 3001(9), the human remains described in this notice represent the physical remains of five individuals of Native American ancestry.

• Pursuant to 25 U.S.C. 3001(3)(A), the seven objects described in this notice are reasonably believed to have been placed with or near individual human remains at the time of death or later as part of the death rite or ceremony.

• Pursuant to 25 U.S.C. 3001(2), there is a relationship of shared group identity that can be reasonably traced between the Native American human remains and the Confederated Tribes of the Chehalis Reservation.

Additional Requestors and Disposition

Lineal descendants or representatives of any Indian tribe or Native Hawaiian organization not identified in this notice that wish to request transfer of control of these human remains and associated funerary objects should submit a written request with information in support of the request to Peter Lape, Burke Museum, University of Washington, Box 353010, Seattle, WA 98195, telephone (206) 685-3849, email plape@uw.edu, by February 18, 2014. After that date, if no additional requestors have come forward, transfer of control of the human remains and associated funerary objects to the Confederated Tribes of the Chehalis Reservation may proceed.

The Burke Museum is responsible for notifying the Confederated Tribes of the Chehalis Reservation and the Quinault Indian Nation (previously listed as the Quinault Tribe of the Quinault Reservation, Washington) that this notice has been published.

Dated: November 25, 2013.
David Tarler,
Acting Manager, National NAGPRA Program.

[FR Doc. 2014-00760 Filed 1-15-14; 8:45 am]

BILLING CODE 4312-50-P